DEPARTMENT OF TRANSPORTATION

ITS Joint Program Office; Intelligent Transportation Systems Program Advisory Committee; Notice of Meeting

AGENCY: Research and Innovative Technology Administration, U.S. Department of Transportation.

ACTION: Notice.

This notice announces, pursuant to Section 10(a)(2) of the Federal Advisory Committee Act (FACA) (Pub. L. 72-363; 5 U.S.C. app. 2), a meeting of the Intelligent Transportation Systems (ITS) Program Advisory Committee (ITSPAC). The meeting will be held on July 31, 2008, 1 p.m. to 5 p.m. and August 1, 2008, 8 a.m. to 1 p.m. The meeting will take place at the Courtyard by Marriott Capitol Hill/Navy Yard Hotel, 140 L Street, SE., Washington, DC 20003.

The ITSPAC, established under Section 5305 of Public Law 109-59, Safe, Accountable, Flexible, Efficient Transportation Equity Act: A Legacy for Users, August 10, 2005, and chartered on February 7, 2008, was created to advise the Secretary of Transportation on all matters relating to the study, development and implementation of intelligent transportation systems. Through its sponsor, the ITS Joint Program Office, the ITSPAC will make recommendations to the Secretary regarding ITS program needs, objectives, plans, approaches, contents, and progress.

The following is a summary of the meeting's tentative agenda. Day 1: (1) Introductory Remarks; (2) Crosswalk: Existing ITS Program Goals and Activities to Proposed New Program Goals and Focus Areas; (3) RITA Administrator Remarks; (4) USDOT World Congress Activity Update; (5) University Transportation Centers Coordination Activities Update; and (6) ITS Advisory Committee Advice Memorandum Update. Day 2: (1) Agenda and Objective Review; (2) ITS Initiatives Program Updates; (3) General Discussion; (4) Summary and Wrap-up; and (5) Next Steps.

Attendance is open to the public, but limited space will be available on a first come, first served basis. With the approval of Ms. Shelley Row, the Committee Designated Federal Official, members of the public may present oral statements at the meeting. Non-committee members wishing to present oral statements or obtain information should contact Ms. Marcia Pincus, the Committee Management Officer, at (202) 366-9230.

Questions about the agenda or written comments may be submitted by U.S. Mail to: U.S. Department of Transportation, Research and Innovative Technology Administration, ITS Joint Program Office, Attention: Marcia Pincus, Room E33-401, 1200 New Jersey Avenue, SE., Washington, DC 20590 or faxed to (202) 493-2027. The ITS Joint Program Office requests that written comments be submitted prior to the meeting.

Persons with a disability requiring special services, such as an interpreter for the hearing impaired, should contact Ms. Pincus at least seven calendar days prior to the meeting.

Notice of this meeting is provided in accordance with the FACA and the General Service Administration regulations (41 CFR Part 102-3) covering management of Federal advisory committees.

Issued in Washington, DC, on the 25th day of June, 2008.
Shelley Row,
Director, ITS Joint Program Office.

[FR Doc. E8-15602 Filed 7-8-08; 8:45 am]

BILLING CODE 4910-HY-P